DEPARTMENT OF JUSTICE

Notice of Lodging of Stipulation and Order Modifying Partial Consent Decree Under the Comprehensive Environmental Response, Compensation and Liability Act of 1980

Under 28 CFR 50.7, notice is hereby given that on September 25, 2001, a proposed Stipulation and Order Modifying Partial Consent Decree (“Stipulation”) in United States v. Aerojet-General Corp., et al., Civil Action Nos. CIVS-86-0063-EJG and CIVS-86-0064-EJG, was lodged with the United States District Court for the Eastern District of California.

In this action originally brought in 1986 the United States sought recovery under both Sections 106 and 107 of CERCLA, 42 U.S.C. §§ 9606 and 9607, for cost recovery and injunctive relief relating to the Aerojet Superfund Site (the “Site”) located near Sacramento, California. The State of California is co-plaintiff in this action. A Partial Consent Decree was entered in 1989 that resolved past costs and provided that Aerojet would perform the remedial investigation/feasibility study at the Site. The Stipulation will (1) speed up the pace of cleanup by dividing the Site into operable units; and (2) remove certain areas from the ambit of the Partial Consent Decree and clarify that EPA does not consider these areas to be part of the Site, while retaining contaminated groundwater and associated contaminated media as part of the Site and subject to the Partial Consent Decree.

The Department of Justice and the State of California will receive for a period of thirty (30) days from the date of this publication comments relating to the Stipulation. Comments should be addressed to the Assistant Attorney General, Environment and Natural Resources Division, P.O. Box 7611, U.S. Department of Justice, Washington, DC 20044-7611, and should refer to United States v. Aerojet-General Corp., et al., D.J. Ref. No. 90-7-1-74. Send comments simultaneously to Alex MacDonald, Central Valley Regional Water Quality Control Board, 3443 Routier Road, Sacramento, California 94822.

The Stipulation may be examined at the Office of the United States Attorney, 501 I Street, Suite 10-100, Sacramento, California, 95814, and at U.S. EPA Region 9, 75 Hawthorne Street, San Francisco, California, 94105. A copy of the Stipulation may also be obtained by mail from the Consent Decree Library, P.O. Box 7611, U.S. Department of Justice, Washington, DC 20044-7611. In requesting a copy, please enclose a check in the amount of $32.75 (25 cents per page reproduction cost) payable to the Consent Decree Library. In requesting a copy exclusive of exhibits, please enclose a check in the amount of $17.50 (25 cents per page reproduction cost) payable to the Consent Decree Library.

Ellen Mahan,
Assistant Chief, Environmental Enforcement Section, Environment and Natural Resources Environment and Natural Resources Division.

[FR Doc. 01-24492 Filed 9-28-01; 8:45 am]

BILLING CODE 4410-15-M